DEPARTMENT OF THE INTERIOR

National Park Service

Colorado River Management Plan, Final Environmental Impact Statement, Grand Canyon National Park, Grand Canyon, Arizona

AGENCY: National Park Service, Department of the Interior.

ACTION: Notice of Availability of the Final Environmental Impact Statement for the Colorado River Management Plan, Grand Canyon National Park.

SUMMARY: Pursuant to subsection 102(2)(C) of the National Environmental Policy Act of 1969, codified as amended at 42 U.S.C. subsection 4332 (2)(C), the National Park Service announces the availability of a Final Environmental Impact Statement (FEIS) for the Colorado River Management Plan, Grand Canyon National Park, Grand Canyon, Arizona. The FEIS describes and analyzes the environmental impacts of several alternatives, including a modified preferred alternative, for future management of public use of the Colorado River through Grand Canyon National Park, including the Lower Gorge. The analysis includes both commercial and non-commercial uses. The FEIS incorporates changes based on comments on the Draft EIS, and includes the responses to public comments.

DATES: The National Park Service will execute a Record of Decision (ROD) no sooner than 30 days following publication by the Environmental Protection Agency of the Notice of Availability of the Final Environmental Impact Statement.

ADDRESSES: Copies of the Final Environmental Impact Statement are available online at www.nps.gov/grca/crmp or from the office of the Superintendent, Grand Canyon National Park, P.O. Box 129, Grand Canyon, Arizona 86023. The document is also available on the Internet at: http://planning.nps.gov/plans.cfm.

FOR FURTHER INFORMATION CONTACT: Mary Killeen, Special Assistant, Grand Canyon National Park, 928-638-7885.

Dated: September 28, 2005.
Michael D. Snyder,
Acting Director, Intermountain Region, National Park Service.

[FR Doc. 05-21595 Filed 10-28-05; 8:45 am]

BILLING CODE 4312-52-P